DEPARTMENT OF ENERGY

Federal Energy Regulatory Commission

[Docket No. CP17-8-000]

Florida Gas Transmission Company, LLC; Notice of Schedule for Environmental Review of the East-West Project

On October 31, 2016 Florida Gas Transmission Company, LLC (FGT) filed an application in Docket No. CP17-8-000 requesting a Certificate of Public Convenience and Necessity pursuant to Section 7(c) of the Natural Gas Act to construct and operate certain natural gas pipeline facilities. The proposed project is known as the East-West Project (Project), and would provide new capacity of 275 million cubic feet per day on FGT's pipeline system in the western division to meet the demand for additional transportation and delivery of natural gas to the proposed Port Arthur—Motiva Meter and Regulator (M&R) Station and the Wilson—Coastal Bend M&R Station in Jefferson and Wharton Counties, Texas respectively.

On November 9, 2016 the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA, October 20, 2017

90-day Federal Authorization Decision Deadline, January 18, 2018

If a schedule change becomes necessary, additional notice will be provided so that the relevant agencies are kept informed of the Project's progress.

Project Description

FGT proposes to construct and operate about 13.3 miles of 12-inch-diameter lateral pipeline, about 12 miles 16-inch-diameter lateral and connection pipeline, and four new meter stations and auxiliary and appurtenant facilities in Wharton, Matagorda, Jefferson, and Orange Counties, Texas, and Calcasieu and Acadia Parishes, Louisiana.

Background

On December 19, 2016 the Commission issued a Notice of Intent to Prepare an Environmental Assessment for the Proposed East-West Project and Request for Comments on Environmental Issues (NOI). The NOI was sent to affected landowners; federal, state, and local government agencies; elected officials; environmental and public interest groups; Native American tribes; other interested parties; and local libraries and newspapers. In response to the NOI, the Commission received comments from one landowner and the Louisiana Department of Fisheries and Wildlife. The primary issues raised by the commentors are potential impacts on soils, wetlands, wildlife refuges, cultural resources, and the aging process/potential corrosion of the pipelines.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the eLibrary link, select General Search from the eLibrary menu, enter the selected date range and Docket Number excluding the last three digits (i.e., CP17-8), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: September 1, 2017.
Kimberly D. Bose,
Secretary.

[FR Doc. 2017-19113 Filed 9-8-17; 8:45 am]

BILLING CODE 6717-01-P